ENVIRONMENTAL PROTECTION AGENCY

[FRL 9987-33-Region 8]

Settlement Agreement for Recovery of Past Response Costs: ACM Smelter and Refinery Site, Great Falls, Cascade County, Montana

AGENCY: Environmental Protection Agency.

ACTION: Notice of proposed agreement; request for public comment.

SUMMARY: In accordance with the requirements of section 122(h)(1) of the Comprehensive Environmental Response Compensation, and Liability Act of 1980, as amended (“CERCLA”) notice is hereby given of the proposed settlement under section 122 (h)(1) of CERCLA, between the U.S. Environmental Protection Agency (EPA), Atlantic Richfield Company and ARCO Environmental Remediation, LLC (Settling Parties). The proposed Settlement Agreement requires the Settling Parties to reimburse the EPA for past response costs. The Settling Parties will pay ($851,393.17) within 30 days after the effective date of the Proposed Agreement to the EPA. The Settling Parties consent to and will not contest the authority of the United States to enter into the Agreement or to implement or enforce its terms. The Settling Parties recognize that the Agreement has been negotiated in good faith and that the Agreement is entered into without the admission or adjudication of any issue of fact or law.

DATES: Comments must be submitted on or before January 4, 2019. For thirty (30) days following the date of publication of this notice, the Agency will receive written comments relating to the agreement. The Agency will consider all comments received and may modify or withdraw its consent to the agreement if comments received disclose facts or considerations that indicate that the agreement is inappropriate, improper, or inadequate.

ADDRESSES: The proposed agreement and additional background information relating to the agreement, as well as the Agency's response to any comments are or will be available for public inspection at the EPA Superfund Record Center, 1595 Wynkoop Street, Denver, Colorado, by appointment. Comments and requests for a copy of the proposed agreement should be addressed to Maureen O'Reilly, Senior Enforcement Specialist, Environmental Protection Agency-Region 8, Mail Code 8ENF-RC, 1595 Wynkoop Street, Denver, Colorado 80202, and should reference the ACM Smelter and Refinery Superfund Site, EPA Docket No. CERCLA-08-2019-0001.

FOR FURTHER INFORMATION CONTACT: Douglas Naftz, Enforcement Attorney, Legal Enforcement Program, Environmental Protection Agency-Region 8, Mail Code 8ENF-L, 1595 Wynkoop Street, Denver, Colorado 80202, (303) 312-6942.

Dated: November 16, 2018.
Suzanne Bohan,
Assistant Regional Administrator, Office of Enforcement, Compliance and Environmental Justice, U.S. Environmental Protection Agency, Region VIII.

[FR Doc. 2018-26484 Filed 12-4-18; 8:45 am]

BILLING CODE 6560-50-P